UNITED STATES INSTITUTE OF PEACE

Meeting

AGENCY: United States Institute of Peace.

Date/Time: Thursday, September 22, 2011 (9 a.m.-6:30 p.m.).

Location: 2301 Constitution Avenue, NW., Washington, DC 20037.

Status: Open Session—Portions may be closed pursuant to Subsection (c) of Section 552(b) of Title 5, United States Code, as provided in subsection 1706(h)(3) of the United States Institute of Peace Act, Public Law 98-525.

Agenda: September 22, 2011 Board Meeting; Approval of Minutes of the One Hundred Fortieth Meeting (June 23-24, 2011) of the Board of Directors; Chairman's Report; President's Report; Overview of Budget and Congress; Grants Program Discussion; Board Executive Session; Other General Issues.

Contact: Tessie F. Higgs, Executive Office, Telephone: (202) 429-3836.

Dated: August 22, 2011.
Michael Graham,
Senior Vice President for Management and CFO, United States Institute of Peace.

[FR Doc. 2011-22331 Filed 8-31-11; 8:45 am]

BILLING CODE 6820-AR-M